DEPARTMENT OF TRANSPORTATION

Federal Aviation Administration

14 CFR Part 39

[Docket No. FAA-2012-0448; Directorate Identifier 2010-SW-016-AD; Amendment 39-17223; AD 2012-21-07]

RIN 2120-AA64

Airworthiness Directives; Agusta S.p.A. Helicopters

AGENCY: Federal Aviation Administration (FAA), DOT.

ACTION: Final rule.

SUMMARY: We are adopting a new airworthiness directive (AD) for Agusta S.p.A. (Agusta) Model A109S helicopters to require modifying the electrical power distribution system to carry a higher electrical load. This AD was prompted by an electrical failure on an Agusta Model A109E helicopter that resulted from “inadequate functioning of the 35 amperes (amps) BATT BUS circuit breaker.” The actions of this AD are intended to require modifying the electrical power distribution system to prevent failure of the circuit breaker, loss of electrical power to instruments powered by the “BATT BUS” system, and subsequent loss of control of the helicopter.

DATES: This AD is effective November 27, 2012.

The Director of the Federal Register approved the incorporation by reference of a certain document listed in this AD as of November 27, 2012.

ADDRESSES: For service information identified in this AD, contact Agusta, S.p.A., Via Giovanni Agusta 520, 21017 Cascina Costa di Samarate (VA), Italy, ATTN: Giovanni Cecchelli; telephone 39-0331-711133; fax 39-0331-711180; or at http://www.agustawestland.com/technical-bullettins. You may review the referenced service information at the FAA, Office of the Regional Counsel, Southwest Region, 2601 Meacham Blvd., Room 663, Fort Worth, Texas 76137.

Examining the AD Docket: You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Mark F. Wiley, Aviation Safety Engineer, Regulations and Policy Group, Rotorcraft Directorate, FAA, 2601 Meacham Blvd., Fort Worth, Texas 76137; telephone (817) 222-5110; email mark.wiley@faa.gov.

SUPPLEMENTARY INFORMATION:

Discussion

On May 9, 2012, at 77 FR 27144, the Federal Register published our Notice of Proposed Rulemaking (NPRM), which proposed to amend 14 CFR part 39 to include an AD that would apply to Agusta Model A109S helicopters, serial numbers up to and including 22151. That NPRM proposed to require compliance with specified portions of the manufacturer's service bulletin to modify the electrical power distribution system by installing a “BATT BUS” Circuit Breaker Modification Kit, part number 109-0824-73-107, and testing for proper functioning of the electrical system. The proposed requirements were intended to prevent failure of the circuit breaker, loss of electrical power to instruments powered by the “BATT BUS” system, and subsequent loss of control of the helicopter.

The European Aviation Safety Agency (EASA), which is the Technical Agent for the Member States of the European Union, issued EASA AD No. 2009-0137, dated June 23, 2009, for the Agusta Model A109E helicopter to correct an unsafe electrical condition caused by an inadequately functioning circuit breaker that was not within design requirements. That EASA AD required installing a “BATT BUS” circuit breaker modification kit on Model A109E helicopters. Based on the unsafe condition created by this circuit breaker as described in EASA AD No. 2009-0137, the FAA issued AD 2010-20-21 (75 FR 61341, October 5, 2010; Correction published at 75 FR 65224, October 22, 2010) to require installing a “BATT BUS” circuit breaker modification kit on Model A109E helicopters in the United States. Subsequently, EASA issued AD No. 2009-0264, dated December 15, 2009, to correct the same unsafe condition on the Agusta Model A109S helicopter due to the design commonality between the electrical power distribution system of the Model A109E and A109S helicopters. The FAA is issuing this AD for the Model A109S helicopter to correct this same unsafe condition.

Comments

We gave the public the opportunity to participate in developing this AD, but we did not receive any comments on the NPRM (77 FR 27144, May 9, 2012).

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of the same type design and that air safety and the public interest require adopting the AD requirements as proposed.

Differences Between This AD and the EASA AD

This AD does not reference the calendar date of June 30, 2010, which has already passed.

Related Service Information

Agusta has issued Bollettino Tecnico No. 109S-35, dated December 11, 2009 (BT), which specifies modifying and testing the “BATT BUS” circuit breaker installation. EASA classified this BT as mandatory and issued AD No. 2009-0264, dated December 15, 2009, to ensure the continued airworthiness of these helicopters.

Costs of Compliance

We estimate that this AD will affect 15 helicopters of U.S. Registry. We estimate that operators may incur the following costs in order to comply with this AD. It will take about 8 work-hours per helicopter to install the “BATT BUS” circuit breaker modification kit at an average labor rate of $85 per work-hour and required parts will cost about $471 per helicopter. Based on these figures, we estimate the total cost impact of this AD on U.S. operators to be $17,265.

According to the Agusta service information, some of the costs of this AD may be covered under warranty, thereby reducing the cost impact on affected individuals. We do not control warranty coverage by Agusta. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-21-07—AGUSTA S.p.A. (Agusta): Amendment 39-17223; Docket No. FAA-2012-0448; Directorate Identifier 2010-SW-016-AD.

(a) Applicability

This AD applies to Agusta Model A109S helicopters, serial numbers up to and including 22151, certificated in any category.

(b) Unsafe Condition

This AD defines the unsafe condition as failure of the 35 ampere (amp) “BATT BUS,” which could result in an electrical failure and fire, loss of electrical power to instruments powered by the “BATT BUS” system, and subsequent loss of control of the helicopter.

(c) Effective Date

This AD becomes effective November 27, 2012.

(d) Compliance

You are responsible for performing each action required by this AD within the specified compliance time unless it has already been accomplished prior to that time.

(e) Required Actions

Within 50 hours time-in-service, modify the electrical power distribution system by installing the “BATT BUS” Circuit Breaker Modification Kit, part number 109-0824-73-107, as depicted in Figures 1 through 3 and by following the Compliance Instructions, paragraphs 4. through 7., of Agusta Bollettino Tecnico No. 109S-35, dated December 11, 2009 (ASB). Thereafter, operationally test the electrical system by following paragraphs 19.1 through 19.7 of the ASB.

(f) Special Flight Permits

Special flight permits may be issued in accordance with 14 CFR 21.197 and 21.199 to operate the helicopter to a location where the requirements of this AD can be accomplished provided that you do not simultaneously operate the landing light and the search light.

(g) Alternative Methods of Compliance (AMOCs)

(1) The Manager, Safety Management Group, FAA, may approve AMOCs for this AD. Send your proposal to: Mark F. Wiley, Aviation Safety Engineer, Regulations and Policy Group, Rotorcraft Directorate, FAA, 2601 Meacham Blvd., Fort Worth, Texas 76137; telephone (817) 222-5110; email mark.wiley@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency AD No. 2009-0264, dated December 15, 2009.

(i) Subject

Joint Aircraft Service Component (JASC) Code: 2460, DC Power/Distribution System.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Agusta Bollettino Tecnico No. 109S-35, dated December 11, 2009.

(ii) Reserved.

(3) For Agusta service information identified in this AD, contact Agusta, S.p.A., Via Giovanni Agusta 520, 21017 Cascina Costa di Samarate (VA), Italy, ATTN: Giovanni Cecchelli; telephone 39-0331-711133; fax 39-0331-711180; or at http://www.agustawestland.com/technical-bullettins.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on October 12, 2012.
Kim Smith,
Manager, Rotorcraft Directorate, Aircraft Certification Service.

[FR Doc. 2012-25896 Filed 10-22-12; 8:45 am]

BILLING CODE 4910-13-P